SECURITIES AND EXCHANGE COMMISSION

17 CFR Part 240

[Release No. 34-66910; File No. S7-08-07]

RIN 3235-AJ85

Amendments to Financial Responsibility Rules for Broker-Dealers

AGENCY: Securities and Exchange Commission

ACTION: Proposed rule; reopening of comment period.

SUMMARY: The Securities and Exchange Commission (“Commission”) is reopening the comment period for proposed amendments to its net capital, customer protection, books and records, and notification rules for broker-dealers under the Securities Exchange Act of 1934 (“Exchange Act”), which was issued by the Commission on March 9, 2007. The original comment period for the proposed amendments closed on May 18, 2007, and the Commission extended the public comment period until June 18, 2007. The Commission did not act on the rules at that time. The Commission is presently reconsidering the proposed rule amendments. Given the passage of time since the amendments were proposed, the Commission is reopening for 30 days the time period in which to provide the Commission with comments.

DATES: Comments should be received on or before June 8, 2012.

ADDRESSES: Comments may be submitted by any of the following methods:

Electronic Comments

• Use the Commission's Internet comment form (http://www.sec.gov/rules/proposed);

• Send an email to rule-comments@sec.gov. Please include File Number S7-08-07 on the subject line; or

• Use the Federal eRulemaking Portal (http://www.regulations.gov). Follow the instructions for submitting comments.

Paper Comments

• Send paper comments in triplicate to Elizabeth M. Murphy, Secretary, Securities and Exchange Commission, 100 F Street NE., Washington, DC 20549-1090.

All submissions should refer to File Number S7-08-07. This file number should be included on the subject line if email is used. To help us process and review your comments more efficiently, please use only one method. The Commission will post all comments on the Commission's Internet Web site (http://www.sec.gov/rules/proposed). Comments will also be available for public inspection and copying in the Commission's Public Reference Room, 100 F Street NE., Washington, DC 20549 on official business days between the hours of 10 a.m. and 3 p.m. All comments received will be posted without change; we do not edit personal identifying information from submissions. You should submit only information that you wish to make available publicly.

FOR FURTHER INFORMATION CONTACT: Michael A. Macchiaroli, Associate Director, at (202) 551-5525; Thomas K. McGowan, Deputy Associate Director, at (202) 551-5521; Randall Roy, Assistant Director, at (202) 551-5522; Raymond A. Lombardo, Branch Chief, at (202) 551-5755; or Sheila Dombal Swartz, Special Counsel, at (202) 551-5545; Division of Trading and Markets, Securities and Exchange Commission, 100 F Street NE., Washington, DC 20549-7010.

SUPPLEMENTARY INFORMATION: On March 9, 2007 (Exchange Act Release No. 55431, 72 FR 12862 (Mar. 19, 2007)), the Commission requested comment on proposed amendments to the Commission's net capital, customer protection, books and records, and notification rules for broker-dealers under the Exchange Act.¹ Specifically, the proposed amendments are designed to address several areas of concern regarding the financial requirements for broker-dealers. They also would update the financial responsibility rules and make certain technical amendments.

¹ See Exchange Act Release No. 55431, 72 FR 12862 (Mar. 19, 2007).

The Commission originally requested that comments on this proposal be received by May 18, 2007, and subsequently extended the public comment period to June 18, 2007.² The Commission is reconsidering these proposals presently. Given economic events since the rule amendments were proposed, as well as regulatory developments, comments received on the proposed amendments, the continuing public interest in the proposed amendments and the passage of time, the Commission believes that it would be appropriate to facilitate additional public comments on the proposed rule amendments. Accordingly, the Commission is reopening the public comment period for 30 days.

² See Exchange Act Release No. 55777 (May 17, 2007), 72 FR 28908 (May 23, 2007).

By the Commission.
Dated: May 3, 2012.
Elizabeth M. Murphy,
Secretary.

[FR Doc. 2012-11133 Filed 5-8-12; 8:45 am]

BILLING CODE 8011-01-P